DEPARTMENT OF LABOR

Office of Federal Contract Compliance Programs

[OMB Control No. 1250-0002]

Agency Information Collection Activities; Request for Emergency Approval of Revision to Approved Information Collection Request, Complaint Involving Employment Discrimination by a Federal Contractor or Subcontractor

AGENCY: Office of Federal Contract Compliance Programs, Labor.

ACTION: Notice.

SUMMARY: In accordance with the Paperwork Reduction Act of 1995 (PRA), the Department of Labor's Office of Federal Contract Compliance Programs (OFCCP) has requested emergency approval from the Office of Management and Budget (OMB) to revise the information collection for its complaint program titled, “Complaint Involving Employment Discrimination by a Federal Contractor or Subcontractor.” OFCCP submitted its request on July 2, 2025.

FOR FURTHER INFORMATION CONTACT: Catherine Eschbach, Director, Office of Federal Contract Compliance Programs, 200 Constitution Avenue NW, Washington, DC 20210. Telephone: (202) 693-0101 or toll free at 1-800-397-6251. If you are deaf, hard of hearing, or have a speech disability, please dial 7-1-1 to access telecommunications relay services. Copies of this notice may be obtained in alternative formats (large print, braille, audio recording) upon request by calling the numbers listed above.

SUPPLEMENTARY INFORMATION:

Background

OFCCP administers and enforces Section 503 of the Rehabilitation Act of 1973, as amended (Section 503) and the Vietnam Era Veterans' Readjustment Assistance Act of 1974, as amended (VEVRAA). Section 503 prohibits employment discrimination against applicants and employees based on disability and requires Federal contractors and subcontractors to take steps to employ, advance in employment, and otherwise treat qualified individuals without discrimination based on disabilities. Its basic coverage requirements apply to contractors with a federal contract or subcontract of more than $15,000. VEVRAA requires contractors to take steps to employ and advance in employment, qualified individuals, namely disabled veterans, recently separated veterans, active-duty wartime or campaign badge veterans, and Armed Forces service medal veterans, and by regulation prohibits employment discrimination against protected veterans and otherwise treat qualified individuals without discrimination based on their status as a protected veteran. Its requirements apply to contractors with a federal contract or subcontract of $150,000 or more.

Revision

At the time this information collection was last approved, OFCCP also enforced Executive Order 11246, as amended (E.O. 11246). On January 21, 2025, President Donald Trump issued Executive Order 14173, Ending Illegal Discrimination and Restoring Merit-Based Opportunity (E.O. 14173), which revoked E.O. 11246. Therefore, applicants and employees of Federal contractors and subcontractors, authorized representatives, or third parties may file complaints of employment discrimination with OFCCP pursuant to Section 503 or VEVRAA but may no longer file complaints with OFCCP pursuant to E.O. 11246.

OFCCP has requested approval to revise questions on the Complaint of Employment Discrimination Involving a Federal Contractor or Subcontractor form (CC-4) and Pre-Complaint Inquiry for Employment Discrimination Involving a Federal Contractor or Subcontractor form (CC-390) to align with E.O. 14173. OFCCP has requested OMB approval to remove items related to E.O. 11246 from these forms.

This information collection is necessary for OFCCP to carry out its statutory obligations under Section 503 and VEVRAA and is needed prior to the ordinary time periods established for revision of an approved collection of information. Approval of this emergency request is warranted under the criteria set forth at 5 CFR 1320.13(a) because (1) without expedited approval, public harm is likely to result, as the public's delay in filing complaints under Section 503 and VEVRAA may foreclose the government's ability to obtain appropriate relief as well as to vindicate the interests of those protected by these laws; (2) an unanticipated change to OFCCP's scope of authority has occurred since the last approval, potentially leading to confusion for people seeking to file complaints under Section 503 and VEVRAA or unclear what protections are available to them; and (3) the use of the normal PRA process will delay implementation of E.O. 14173 and disrupt the agency's statutory requirement to promptly investigate complaints pursuant to VEVRAA and Section 503.

Agency: Office of Federal Contract Compliance Programs.

Type of Review: Revision of a currently approved collection.

Title of Collection: Complaint Involving Employment Discrimination by a Federal Contractor or Subcontractor.

Forms: CC-4 and CC-390.

OMB Control Number: 1250-0002.

Affected Public: Business or other for profit; individuals.

Estimated Number of Respondents: 1,618 respondents for the CC-390; 100 respondents for the CC-4.

Frequency: On occasion.

Number of Responses: 1,618 responses for the CC-390; 100 responses for the CC-4.

Estimated Average Time per Response: .25 hour for the CC-390; 1 hour for the CC-4.

Estimated Total Annual Burden Hours: 505 hours.

Total Estimated Annual Other Cost Burden: $1,797.

(Authority: 29 U.S.C. 793; 38 U.S.C. 4212; 41 CFR 60-300.61; and 41 CFR 60-741.61.)

Catherine Eschbach,
Director, Office of Federal Contract Compliance Programs.

[FR Doc. 2025-12802 Filed 7-9-25; 8:45 am]

BILLING CODE 4510-CM-P